DEPARTMENT OF LABOR

Employee Benefits Security Administration

Agency Information Collection Activities; Request for Public Comment on Revisions to the National Medical Support Notice—Part B

AGENCY: Employee Benefits Security Administration (EBSA), Department of Labor.

ACTION: Notice.

SUMMARY: The Department of Labor (the Department), as part of its continuing effort to reduce paperwork and respondent burden, conducts a preclearance consultation program to provide the general public and Federal agencies with an opportunity to comment on proposed and continuing collections of information in accordance with the Paperwork Reduction Act of 1995 (PRA 95). This program helps to ensure that the data the Department collects can be provided in the desired format, that the reporting burden on the public (time and financial resources) is minimized, that the public understands the Department's collection instruments, and that the Department can accurately assess the impact of its collection requirements on respondents. Currently, the Employee Benefits Security Administration (EBSA) is soliciting comments concerning a revision to the information collection contained in the National Medical Support Notice—Part B. A copy of the ICRs may be obtained by contacting the office listed in the ADDRESSES section of this notice.

DATES: Written comments must be submitted to the office shown in the ADDRESSES section on or before June 21, 2022.

ADDRESSES: James Butikofer, Department of Labor, Employee Benefits Security Administration, 200 Constitution Avenue NW, Room N-5718, Washington, DC 20210, or ebsa.opr@dol.gov.

SUPPLEMENTARY INFORMATION:

I. Background

Section 609(a) of the Employee Retirement Income Security Act of 1974, as amended (ERISA), requires each group health plan, as defined in ERISA section 607(1), to provide benefits in accordance with the applicable requirements of any “qualified medical child support order” (QMCSO). A QMCSO is, generally, an order issued by a state court or other competent state authority that requires a group health plan to provide group health coverage to a child or children of an employee eligible for coverage under the plan. In accordance with Congressional directives contained in the Child Support Performance and Incentive Act of 1998 (CSPIA), EBSA and the Federal Office of Child Support Enforcement (OCSE) in the Department of Health and Human Services (HHS) cooperated in the development of regulations to create a National Medical Support Notice (NMSN or Notice). The Notice simplifies the issuance and processing of qualified medical child support orders issued by state child support enforcement agencies, provides for standardized communication between state agencies, employers, and plan administrators, and creates a uniform and streamlined process for enforcement of medical child support obligations ordered by state child support enforcement agencies. The NMSN comprises two parts: Part A was promulgated by HHS and pertains to state child support enforcement agencies and employers; Part B was promulgated by the Department and pertains to plan administrators pursuant to ERISA. This solicitation of public comment relates only to Part B of the NMSN, which was promulgated by the Department. In connection with promulgation of Part B of the NMSN, the Department submitted an ICR to the Office of Management and Budget (OMB) for review, and OMB approved the information collections contained in Part B under OMB control number 1210-0113. OMB's approval of this ICR is scheduled to expire on October 31, 2022.

II. Current Actions

This notice requests comments on a revision to the ICR included in Part B of the NMSN. The changes are generally formatting changes and additional spaces intended to facilitate completion of the Form and conform to similar changes made to Part A. Specific changes include check boxes added to the Plan Administrator Response, expanded space on the Form to allow for the identification of up to six children, and minor text edits for clarity. An addendum provides additional space to identify insurance provider information and to list the children that are no longer eligible for coverage because they are above the age at which dependents are eligible for coverage under the plan. Spaces are also added for email contact information for both the issuing agency and the plan administrator. Finally, the changes add an instruction that the Plan Administrator Response must be returned to the child support agency that issued the Form, so as to avoid parties inadvertently providing the response to the Department of Labor.

A summary of the Department's ICR and its current burden estimates follows:

Title: National Medical Support Notice—Part B.

Type of Review: Revision of a currently approved collection of information.

OMB Number: 1210-0113.

Affected Public: Not-for-profit institutions, Businesses or other for-profits.

Respondents: 425,444.

Responses: 10,546,371.

Estimated Total Burden Hours: 878,864.

Estimated Total Burden Cost (Operating and Maintenance): $3,322,107.

III. Focus of Comments

The Department is currently soliciting comments on the information collection contained in the National Medical Support Notice—Part B. The Department is particularly interested in comments that:

• Evaluate whether the collections of information are necessary for the proper performance of the functions of the agency, including whether the information will have practical utility;

• Evaluate the accuracy of the agency's estimate of the collections of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

• Evaluate the effectiveness of the additional demographic questions.

Comments submitted in response to this notice will be summarized and/or included in the ICR for OMB approval of the information collection; they will also become a matter of public record.

Signed at Washington, DC, this 14th day of April, 2022.
Ali Khawar,
Acting Assistant Secretary, Employee Benefits Security Administration, U.S. Department of Labor.

[FR Doc. 2022-08416 Filed 4-19-22; 8:45 am]

BILLING CODE 4510-29-P